DEPARTMENT OF ENERGY

Federal Energy Regulatory Commission

[Docket No. CP15-118-000]

Transcontinental Gas Pipe Line Company, LLC; Notice of Revised Schedule for Environmental Review of the Virginia Southside Expansion Project II

This notice identifies the Federal Energy Regulatory Commission (Commission or FERC) staff's revised schedule for the completion of the environmental assessment (EA) for Transcontinental Gas Pipe Line Company, LLC's Virginia Southside Expansion Project II. The first notice of schedule, issued on March 7, 2016, identified April 29, 2016 as the EA issuance date. Staff has revised the schedule for issuance of the EA.

Schedule for Environmental Review

Issuance of the EA | May 13, 2016
90-day Federal Authorization Decision Deadline | August 11, 2016

If a schedule change becomes necessary, an additional notice will be provided so that the relevant agencies are kept informed of the project's progress.

Additional Information

In order to receive notification of the issuance of the EA and to keep track of all formal issuances and submittals in specific dockets, the Commission offers a free service called eSubscription (http://www.ferc.gov/docs-filing/esubscription.asp).

Dated: April 29, 2016.
Kimberly D. Bose,
Secretary.

[FR Doc. 2016-10670 Filed 5-5-16; 8:45 am]

BILLING CODE 6717-01-P